LIBRARY OF CONGRESS

Copyright Royalty Board

[Docket No. 2011-6 CRB DD 2010]

Distribution of 2010 DART Sound Recordings Fund Royalties

AGENCY: Copyright Royalty Board, Library of Congress.

ACTION: Notice soliciting comments on motion for partial distribution.

SUMMARY: The Copyright Royalty Judges solicit comments on a motion for partial distribution in connection with 2010 DART Sound Recordings Fund royalties.

DATES: Comments are due on or before October 13, 2011.

ADDRESSES: Comments may be sent electronically to crb@loc.gov. In the alternative, send an original, five copies, and an electronic copy on a CD either by mail or hand delivery. Please do not use multiple means of transmission. Comments may not be delivered by an overnight delivery service other than the U.S. Postal Service Express Mail. If by mail (including overnight delivery), comments must be addressed to: Copyright Royalty Board, P.O. Box 70977, Washington, DC 20024-0977. If hand delivered by a private party, comments must be brought to the Library of Congress, James Madison Memorial Building, LM-401, 101 Independence Avenue, SE., Washington, DC 20559-6000. If delivered by a commercial courier, comments must be delivered to the Congressional Courier Acceptance Site located at 2nd and D Street, NE,. Washington, DC. The envelope must be addressed to: Copyright Royalty Board, Library of Congress, James Madison Memorial Building, LM-403, 101 Independence Avenue, SE., Washington, DC 20559-6000.

FOR FURTHER INFORMATION CONTACT: Richard Strasser, Senior Attorney, or Gina Giuffreda, Attorney Advisor, by telephone at (202) 707-7658 or e-mail at crb@loc.gov.

SUPPLEMENTARY INFORMATION: On August 23, 2011, the Alliance of Artists and Recording Companies (“AARC”), on behalf of itself and claimants with which it has reached settlements (the “Settling Claimants”) filed with the Judges a Notice of Settlement and Request for Partial Distribution of the 2010 DART Sound Recordings Fund Featured Recording Artists and Copyright Owners Subfunds Royalties (“Notice and Request”). In the Notice and Request, AARC states that the Settling Claimants have reached a settlement among themselves concerning distribution of the 2010 DART Sound Recordings Fund Royalties. With respect to the Featured Recording Artists Subfund, AARC represents that it has reached settlements with 215 of the 217 other claimants for that subfund and that the nonsettling claimants have “de minimis record sales of 2,163 and 13, respectively, in a universe of over one billion claimants' sound recordings sold in 2010.” Notice and Request at 2. With respect to the Copyright Owners Subfund, AARC represents that it has reached settlements with 218 of the 225 other claimants. AARC represents that the nonsettling claimants have combined sales of 3,010 “in a universe of over one billion claimants' sound recordings sold in 2010.” Notice and Request at 2. AARC requests a partial distribution of 98% from each of the subfunds pursuant to Section 801(b)(3)(C) of the Copyright Act. Under that section of the Copyright Act, before ruling on a partial distribution motion the Judges must publish a notice in the Federal Register seeking responses to the motion to ascertain whether any claimant entitled to receive such royalty fees has a reasonable objection to the proposed distribution. Consequently, this Notice seeks comments from interested claimants on whether any reasonable objection exists that would preclude the distribution of 98% of the 2010 DART Sound Recordings Royalty funds (both subfunds) to the Settling Claimants. The Judges must be advised of the existence and extent of all such objections by the end of the comment period. The Judges will not consider any objections with respect to the partial distribution motion that come to their attention after the close of that period.

The Notice and Request is posted on the Copyright Royalty Board Web site at http://www.loc.gov/crb.

Dated: September 7, 2011.
James Scott Sledge,
Chief U.S. Copyright Royalty Judge.

[FR Doc. 2011-23287 Filed 9-12-11; 8:45 am]

BILLING CODE 1410-72-P